NATIONAL AERONAUTICS AND SPACE ADMINISTRATION

[Notice (01-156)]

Notice of Prospective Patent License

AGENCY: National Aeronautics and Space Administration.

ACTION: Notice of prospective patent license.

SUMMARY: NASA hereby gives notice that The Texas A&M University System, having offices in College Station, Texas, has applied for a partially exclusive license to practice the inventions described and claimed in U.S. Patent No. 5,827,531, entitled “Multi-Lamellar, Immiscible-Phase Microencapsulation of Drugs”; U.S. Patent No. 6,099,864, entitled “INSITU Activation of Microcapsules”; U.S. Patent No. 6,214,300, entitled “Microencapsulation and Electrostatic Processing Device (MEPS)”; U.S. Patent No. 6,103,271, entitled “Microencapsulation & Electrostatic Coating Process”; pending U.S. Patent Application entitled “Protein Crystal Encapsulation Process”; NASA Case No. MSC22936-1-SB; pending U.S. Patent Application entitled “Externally Triggered Microcapsules”; NASA Case No. MSC 22939-1-SB and pending continuations, divisional applications, and foreign applications corresponding to the above-listed cases. Each of the above-listed patents and patent applications are assigned to the United States of America as represented by the Administrator of the National Aeronautics and Space Administration. With respect to U.S. Patent No. 5,827,531 only. NASA's property interests are presently limited by the terms of previously issued License No. DE-252. NASA is in the process of terminating the DE-252 License, pursuant to the terms of that license and applicable provisions of Title 37 of the Code of Federal Regulations, part 404. Written objections to the prospective grant of a license should be sent to the Johnson Space Center.

DATES: Responses to this notice must be received by January 10, 2002.

FOR FURTHER INFORMATION CONTACT: James Cate, Patent Attorney, NASA Johnson Space Center, Mail Stop HA, Houston, TX 77058-8452; telephone (281) 483-1001.

Dated: December 4, 2001.
Robert M. Stephens,
Deputy General Counsel.

[FR Doc. 01-30490 Filed 12-10-01; 8:45 am]

BILLING CODE 7510-01-P